NUCLEAR REGULATORY COMMISSION

[Docket No. PROJ0735]

Public Meeting To Discuss Nuclear Regulatory Commission Roles and Responsibilities for Department of Energy Waste Determination Activities at the Idaho National Laboratory; Notice of Public Meeting in Idaho Falls, ID

AGENCY: Nuclear Regulatory Commission.

ACTION: Notice of public meeting.

DATES: April 25, 2007.

FOR FURTHER INFORMATION CONTACT: Xiaosong Yin, Project Manager, Environmental Protection and Performance Assessment Directorate, Division of Waste Management and Environmental Protection, Office of Federal and State Materials and Environmental Management Programs, U.S. Nuclear Regulatory Commission, Washington, DC 20555-0001. Telephone: (301) 415-7640; fax number: (301) 415-5397; e-mail: XXY@nrc.gov.

SUPPLEMENTARY INFORMATION:

1. Introduction

The Ronald Reagan National Defense Authorization Act for Fiscal Year 2005 (NDAA) authorizes the U.S. Department of Energy (DOE), in consultation with the Nuclear Regulatory Commission (NRC), to determine whether certain radioactive waste related to the reprocessing of spent nuclear fuel is not high-level waste, provided certain criteria are met. The NDAA also requires NRC to monitor DOE disposal actions to assess compliance with 10 CFR Part 61, Subpart C, performance objectives for low-level waste.

On September 7, 2005, DOE submitted a draft waste determination for residual waste incidental to reprocessing, including sodium bearing waste, stored in the Idaho Nuclear Technology and Engineering Center (INTEC) Tank Farm Facility (TFF) to demonstrate compliance with the NDAA criteria including demonstration of compliance with the performance objectives in 10 CFR Part 61, Subpart C. In its consultation role, the NRC staff reviewed the draft waste determination and concluded that the NDAA criteria could be met for residual waste stored in the INTEC TFF. NRC documented the results of its review in a technical evaluation report (TER) issued in October 2006. DOE issued a final waste determination in November 2006 taking into consideration the assumptions, conclusions, and recommendations documented in NRC's TER (ML062490142).

To better inform the public on the NRC's activities under the NDAA, NRC is holding this public meeting in Idaho Falls, Idaho to provide the public with a clear understanding of NRC's activities on the implementation of the NDAA and the review of DOE's waste determination for the INTEC TFF. The NRC staff will also provide an overview of its planned monitoring activities.

2. Meeting Time and Location

The NRC will hold this public meeting on April 25, 2007, at Red Lion Hotels, 475 River Parkway, Idaho Falls, Idaho.

3. Meeting Agenda

6:30 p.m.-7 p.m.: Meeting participants registration.

7 p.m.-7:10 p.m.: The NRC staff will make opening remarks regarding the conduct of today's sessions.

7:10 p.m.-7:30 p.m.: The NRC staff will provide an overview of NRC's implementation of the Ronald Reagan National Defense Authorization Act for FY 2005, Section 3116.

7:30 p.m.-7:45 p.m.: Open questions and answers from all participants.

7:45 p.m.-8 p.m.: The NRC staff will provide an overview on NRC's technical review of DOE's Draft Determination for the Tank Farm Facility at the Idaho National Laboratory.

8 p.m.-8:15 p.m.: The NRC staff will provide an overview of NRC planned monitoring activities for the Tank Farm Facility at the Idaho National Laboratory.

8:15 p.m.-9 p.m.: Open questions and answers from all participants.

9 p.m.: Adjourn.

Dated at Rockville, Maryland, this 5th day of April, 2007.
For the Nuclear Regulatory Commission.
Scott Flanders,
Deputy Director, Environmental Protection and Performance Assessment Directorate, Division of Waste Management and Environmental Protection. Office of Federal and State Materials and Environmental Management Programs.

[FR Doc. E7-6836 Filed 4-10-07; 8:45 am]

BILLING CODE 7590-01-P